DEPARTMENT OF ENERGY

Notice of Request for Information on Battery Critical Materials Supply Chain R&D

AGENCY: Advanced Manufacturing Office (AMO), Office of Energy Efficiency and Renewable Energy, Department of Energy (DOE).

ACTION: Extension of public comment period.

SUMMARY: On June 16, 2020, the U.S. Department of Energy (DOE) published a notice of Request for Information (RFI) on Battery Critical Materials Supply Chain. The notice provided an opportunity for submitting electronic, written responses to the RFI by July 16, 2020. The RFI will be posted on EERE Exchange on June 29, 2020. DOE is extending the public comment period for submitting comments to the RFI by 15 days until July 31, 2020.

DATES: The comment period for the RFI published on June 16, 2020 (85 FR 36394) is extended. DOE will accept responses regarding this request for information received no later than July 31, 2020.

ADDRESSES: Interested parties are to submit comments electronically to BatteryCriticalMaterialsRFI@ee.doe.gov. Include Battery Critical Materials Supply Chain R&D in the subject of the title. Only electronic responses will be accepted. The complete RFI document is located at https://eere-exchange.energy.gov/.

FOR FURTHER INFORMATION CONTACT: Question may be addressed to Helena Khazdozian at 202-586-9236 or BatteryCriticalMaterialsRFI@ee.doe.gov. Further instruction can be found in the RFI document posted on https://eere-exchange.energy.gov/.

SUPPLEMENTARY INFORMATION: On June 16, 2020, DOE published a notice of RFI for Battery Critical Materials Supply Chain R&D to solicit feedback from industry, academia, research laboratories, government agencies, and other stakeholders on issues related to challenges and opportunities in the upstream and midstream critical materials battery supply chains. EERE is specifically interested in information on raw minerals production and refining and processing of cathode materials including cobalt, lithium, and battery grade (Class I) nickel.¹

¹ Nickel is not a critical mineral commodity on the list published by the Secretary of Interior. https://www.federalregister.gov/documents/2018/05/18/2018-10667/final-list-of-critical-minerals-2018

The RFI will be published on EERE Exchange on June 29, 2020. DOE believes that extending the comment period to allow additional time for interested parties to submit comments is appropriate. Therefore, DOE is extending the deadline for response until July 31, 2020 to provide interested parties additional time to prepare and submit responses.

Signing Authority

This document of the Department of Energy was signed on June 24, 2020, by Valri Lightner, Acting Director, Advanced Manufacturing Office, Office Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on June 26, 2020.
Treena V. Garrett,
Federal Register Liaison Officer, U.S. Department of Energy.

[FR Doc. 2020-14166 Filed 6-30-20; 8:45 am]

BILLING CODE 6450-01-P